DEPARTMENT OF STATE

22 CFR Part 41

[Public Notice 4378]

RIN 1400-AB53

Documentation of Nonimmigrants Under the Immigration and Nationality Act, as Amended—Additional International Organization

AGENCY: Department of State.

ACTION: Final rule.

SUMMARY: This rule implements regulations relating to the visa status of personnel of INTELSAT after privatization of that organization. This rule makes final the interim rule, which added INTELSAT (following privatization) to the regulatory definition of “international organization”, but only for purposes of the Immigration and Nationality Act. The rule also clarifies the status of the organization and the personnel affected.

EFFECTIVE DATE: This rule is effective May 30, 2003.

FOR FURTHER INFORMATION CONTACT: Elizabeth J. Harper, Legislation and Regulations Division, Visa Services, Department of State, Washington, DC 20520-0106, (202) 663-1221, e-mail harperbj@state.gov, or fax at (202) 663-3898.

SUPPLEMENTARY INFORMATION:

What Is the Background of This Rule?

Section 301 of Public Law 106-396 (47 U.S.C. 763, Oct. 30, 2000) permits certain aliens who were officers or employees of INTELSAT before its privatization and who obtained and had maintained the status of “international organization alien” under the terms of section 101(a)(15)(G) of the Immigration and Nationality Act (INA) for the requisite period to continue to be eligible for such classification as long as they are officers or employees of INTELSAT or any successor or separated entity of INTELSAT. It also provides that, despite its privatization, INTELSAT or any successor or separated entity will continue to qualify as an “international organization” for purposes of the special immigrant provision of INA 101(a)(27)(I), relating to certain international organization aliens and family members.

On January 11, 2002, the Department published an interim rule to implement these new provisions, and on April 17, 2002, the Department published a second interim rule to revise the interim regulation to further clarify the status of privatized INTELSAT and the personnel affected. As made clear in the second interim rule, Public Law 106-396 confers the status of international organization on privatized INTELSAT only in connection with the special immigrant provision in INA section 101(a)(27)(I). It also allows certain officers and employees of privatized INTELSAT to retain their G-4 status despite the fact that INTELSAT, once privatized, no longer meets the definition of international organization for purposes of visa classification under INA 101(a)(15)(G). Additionally, as the second interim rule clarified, Public Law 106-396 does not provide for G-5 status for servants of privatized INTELSAT officers and employees.

Were Comments Solicited on This Rule?

The Department solicited comments to be received no later than June 17, 2002. No comments were received.

Final Rule

The Department's interim rule published on April 17, 2002 [67 FR 18821] provided all the amendments to 22 CFR 41.24. Since there are no further amendments necessary to the Department's interim rule, the Department does not feel it necessary to republish the text of the interim. The interim rule is therefore being incorporated herein as a final rule.

Dated: May 6, 2003.
Maura Harty,
Assistant Secretary for Consular Affairs, Department of State.

[FR Doc. 03-13553 Filed 5-29-03; 8:45 am]

BILLING CODE 4710-06-P